DEPARTMENT OF TRANSPORTATION

Federal Motor Carrier Safety Administration

[Docket No. FMCSA-2008-0078]

Commercial Driver's License (CDL) Standards; Rotel North American Tours, LLC; Application for Renewal of Exemption; Correction

AGENCY: Federal Motor Carrier Safety Administration (FMCSA), DOT.

ACTION: Notice; correction.

SUMMARY: FMCSA corrects two notices published in the Federal Register on January 31, 2012, and June 14, 2010. In each instance, FMCSA announced in error that 22 named drivers being renewed for an exemption were employed by Rotel North American Tours, LLC. This notice corrects the error and provides the correct name of the employer for these drivers, Rotel Tours of Germany.

FOR FURTHER INFORMATION CONTACT: Ms. Pearlie Robinson, FMCSA Driver and Carrier Operations Division, Office of Bus and Truck Standards and Operations, Telephone: 202-366-4325. Email: MCPSD@dot.gov.

SUPPLEMENTARY INFORMATION: FMCSA published a notice and request for comments in the Federal Register on January 31, 2012 (77 FR 4881), and June 14, 2010 (75 FR 33661), announcing that Rotel North American Tours, LLC (Rotel) had applied for renewal of its current exemption permitting 22 named drivers, employed by Rotel, possessing German CDLs, to operate commercial motor vehicles (CMVs) in the United States without a CDL issued by one of the States. The 22 drivers named are actually employed by Rotel Tours of Germany (currently, Rotel Tours, Das Rollende Hotel, through Georg Hoeltl GmBh & Co.Kg, Tittling, or George Hoeltl GmbH, Tittling), of which Rotel North American Tours, LLC, is an affiliate and not the employer. The driver-employees of Rotel Tours of Germany are utilized by Rotel North American Tours, LLC, which conducts international tours.

For FMCSA's notice of application for renewal of exemption published on January 31, 2012 (77 FR 4881), the following correction is made:

On page 4881, in the third column, Summary section, we correct the first sentence “FMCSA announces that Rotel North American Tours, LLC (Rotel), has applied for renewal of its current exemption permitting 22 named drivers, employed by Rotel and possessing German CDLs, to operate commercial motor vehicles (CMVs) in the United States without a CDL issued by one of the States,” to read “FMCSA announces that Rotel North American Tours, LLC (Rotel), has applied for renewal of its current exemption permitting 22 named drivers, employed by Rotel Tours of Germany (currently, Rotel Tours, Das Rollende Hotel, through Georg Hoeltl GmBh & Co.Kg, Tittling, or George Hoeltl GmbH, Tittling) and possessing German CDLs, to operate commercial motor vehicles (CMVs) in the United States without a CDL issued by one of the States.”

For FMCSA's notice of application for renewal of exemption published on June 14, 2010 (FR 75 33661), the following correction is made:

On page 33661, in the first column, Summary section, we correct the first sentence “FMCSA announces that Rotel North American Tours, LLC (Rotel), has applied for renewal of its current exemption permitting 22 named drivers, employed by Rotel and possessing German CDLs, to operate commercial motor vehicles (CMVs) in the United States without a CDL issued by one of the States,” to read “FMCSA announces that Rotel North American Tours, LLC (Rotel), has applied for renewal of its current exemption permitting 22 named drivers, employed by Rotel Tours of Germany (currently, Rotel Tours, Das Rollende Hotel, through Georg Hoeltl GmBh & Co.Kg, Tittling, or George Hoeltl GmbH, Tittling) and possessing German CDLs, to operate commercial motor vehicles (CMVs) in the United States without a CDL issued by one of the States.”

Issued on: March 13, 2012.
Larry W. Minor,
Associate Administrator for Policy.

[FR Doc. 2012-7123 Filed 3-22-12; 8:45 am]

BILLING CODE 4910-EX-P